DEPARTMENT OF LABOR

Employment and Training Administration

Workforce Information Advisory Council

AGENCY: Employment and Training Administration, Labor.

ACTION: Solicitation of Nominations for a State Labor Market Information Director to serve on the Workforce Information Advisory Council.

Authority: Pursuant to the Wagner-Peyser Act of 1933, as amended, 29 U.S.C. 49 et seq.; Workforce Innovation and Opportunity Act, Public Law 113-128; Federal Advisory Committee Act, as amended, 5 U.S.C. App.

SUMMARY: The Department of Labor (Department) is soliciting nominations for a state Labor Market Information (LMI) director to fill a vacancy on the Workforce Information Advisory Council (WIAC). The person selected to fill this vacancy will be asked to serve on the WIAC until March 25, 2019. The Department invites interested parties to submit nominations for this vacancy and announces the procedures for those nominations.

SUPPLEMENTARY INFORMATION:

I. Background and Authority

Section 15 of the Wagner-Peyser Act, 29 U.S.C. 49l-2, as amended by section 308 of the Workforce Innovation and Opportunity Act (WIOA), Public Law 113-128 requires the Secretary of Labor (Secretary) to establish the WIAC.

The statute, as amended, requires the Secretary, acting through the Commissioner of Labor Statistics and the Assistant Secretary for Employment and Training, to formally consult at least twice annually with the WIAC to address: (1) Evaluation and improvement of the nationwide workforce and labor market information system established by the Wagner-Peyser Act, and of the statewide systems that comprise the nationwide system, and (2) how the Department and the States will cooperate in the management of those systems. The Secretary, acting through the Bureau of Labor Statistics (BLS) and the Employment and Training Administration (ETA), and in consultation with the WIAC and appropriate Federal agencies, must also develop a 2-year plan for management of the system, with subsequent updates every two years thereafter. The statute generally prescribes how the plan is to be developed and implemented, outlines the contents of the plan, and requires the Secretary to submit the plan to the Committee on Education and the Workforce in the House of Representatives and the Committee on Health, Education, Labor, and Pensions of the Senate.

By law, the Secretary must “solicit, receive, and evaluate” recommendations from the WIAC, and respond to the recommendations in writing to the WIAC. The WIAC must make written recommendations to the Secretary on the evaluation and improvement of the workforce and labor market information system, including recommendations for the 2-year plan. The 2-year plan, in turn, must describe WIAC recommendations and the extent to which the plan incorporates them.

The Department anticipates that the WIAC will accomplish its objectives by, for example: (1) Studying workforce and labor market information issues; (2) seeking and sharing information on innovative approaches, new technologies, and data to inform employment, skills training, and workforce and economic development decision making and policy; and (3) advising the Secretary on how the workforce and labor market information system can best support workforce development, planning, and program development.

II. Structure

The Wagner-Peyser Act at section 15(d)(2)(B), requires the WIAC to have 14 representative members, appointed by the Secretary, consisting of:

(i) Four members who are representatives of lead State agencies with responsibility for workforce investment activities, or State agencies described in Wagner-Peyser Act Section 4 (agency designated or authorized by Governor to cooperate with the Secretary), who have been nominated by such agencies or by a national organization that represents such agencies;

(ii) Four members who are representatives of the State workforce and labor market information directors affiliated with the State agencies responsible for the management and oversight of the workforce and labor market information system as described in Wagner-Peyser Act Section 15(e)(2), who have been nominated by the directors;

(iii) One member who is a representative of providers of training services under WIOA section 122 (Identification of Eligible Providers of Training Services);

(iv) One member who is a representative of economic development entities;

(v) One member who is a representative of businesses, who has been nominated by national business organizations or trade associations;

(vi) One member who is a representative of labor organizations, who has been nominated by a national labor federation;

(vii) One member who is a representative of local workforce development boards, who has been nominated by a national organization representing such boards; and

(viii) One member who is a representative of research entities that use workforce and labor market information.

The Secretary must ensure that the membership of the WIAC is geographically diverse, and that no two members appointed under clauses (i), (ii), and (vii), above, represent the same State. Each member will be appointed for a term of three years, except that the initial terms for members may be one, two, or three years in order to establish a rotation in which one-third of the members are selected each year. The Secretary will not appoint a member for any more than two consecutive terms. Any member whom the Secretary appoints to fill a vacancy occurring before the expiration of the predecessor's term will be appointed only for the remainder of that term. Members of the WIAC will serve on a voluntary and generally uncompensated basis, but will be reimbursed for travel expenses to attend WIAC meetings, including per diem in lieu of subsistence, as authorized by the Federal travel regulations.

III. Nominations Process

To fill the vacancy for the state LMI director category, which is type (ii) listed in the section above, section 15(d)(2)(B) requires nominations may only be received from State workforce and labor market information directors.

If you would like to nominate a state LMI director for appointment to the WIAC, please submit, to one of the addresses listed below, the following information:

• A copy of the nominee's biographical information and resume;

• A cover letter that provides your reason(s) for nominating the individual, the constituency area that they represent (as outlined above in the WIAC membership identification discussion), and their particular expertise for contributing to the national policy discussion on: (1) The evaluation and improvement of the nationwide workforce and labor market information system and statewide systems that comprise the nationwide system, and (2) how the Department and the States will cooperate in the management of those systems, including programs that produce employment-related statistics and State and local workforce and labor market information; and

• Contact information for the nominee (name, title, business address, business phone, fax number, and business email address).

In addition, the cover letter must state that the nomination is being made in response to this Federal Register Notice and that the nominee (if nominating someone other than oneself) has agreed to be nominated and is willing to serve on the WIAC until March 25, 2019.

Nominations for individuals to serve on the WIAC must be submitted (postmarked, if sending by mail; submitted electronically; or received, if hand delivered) by April 10, 2017.

ADDRESSES: You may submit nominations and supporting materials described in this Federal Register Notice by any one of the following methods:

Electronically: Submit nominations, including attachments, by email using the following address: WIAC@dol.gov (use subject line “Nomination—Workforce Information Advisory Council”).

Mail, express delivery, hand delivery, messenger, or courier service: Submit one copy of the nominations and supporting materials to the following address: Workforce Information Advisory Council Nominations, Office of Workforce Investment, U.S. Department of Labor, 200 Constitution Ave. NW., Room C-4526, Washington, DC 20210. Deliveries by hand, express mail, messenger, and courier service are accepted by the Office of Workforce Investment during the hours of 9:00 a.m.-5:00 p.m., Eastern Daylight Time, Monday through Friday. Due to security-related procedures, submissions by regular mail may experience significant delays.

Facsimile: The Department will not accept nominations submitted by fax.

FOR FURTHER INFORMATION CONTACT: Steve Rietzke, Division of National Programs, Tools, and Technical Assistance, Office of Workforce Investment (address above); (202) 693-3912; or use the email address for the WIAC, WIAC@dol.gov.

Byron Zuidema,
Deputy Assistant Secretary for Employment and Training Administration, Labor.

[FR Doc. 2017-04685 Filed 3-8-17; 8:45 am]

BILLING CODE 4510-FN-P